DEPARTMENT OF TRANSPORTATION

Federal Aviation Administration

14 CFR Part 39

[Docket No. 2002-NM-125-AD; Amendment 39-13387; AD 2003-25-04]

RIN 2120-AA64

Airworthiness Directives; Airbus Model A319, A320, and A321 Series Airplanes

AGENCY: Federal Aviation Administration, DOT.

ACTION: Final rule.

SUMMARY: This amendment supersedes an existing airworthiness directive (AD), applicable to certain Airbus Model A319, A320, and A321 series airplanes, that currently requires modifying the fuel pipe couplings and installing bonding leads in specified locations within the fuel tank. This amendment continues to require the modification and installation, but adds new modifications of the bonding leads for certain airplanes. This amendment also changes the applicability of the existing AD. The actions specified by this AD are intended to prevent ignition sources and consequent fire/explosion in the fuel tank. This action is intended to address the identified unsafe condition.

DATES: Effective January 27, 2004. The incorporation by reference of certain publications, as listed in the regulations, is approved by the Director of the Federal Register as of January 27, 2004.

The incorporation by reference of a certain other publication, as listed in the regulations, was approved previously by the Director of the Federal Register as of August 28, 2000 (65 FR 45513, July 24, 2000).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 2000-14-15, amendment 39-11825 (65 FR 45513, July 24, 2000), which is applicable to certain Airbus Model A319, A320, and A321 series airplanes, was published in the Federal Register on September 9, 2003 (68 FR 53061). The action proposed to require modifying the fuel pipe couplings and installing bonding leads in specified locations within the fuel tank. The action also adds new modifications of the bonding leads, for certain airplanes, and changes the applicability in the existing AD.

Comments

Interested persons have been afforded an opportunity to participate in the making of this amendment. Due consideration has been given to the comments received. Two commenters have no objections or comments to the proposed AD.

Request To Cite Revised Service Information

Two commenters ask that the new requirements section of the proposed AD be changed to cite Revision 01, dated April 26, 2000; Revision 02, dated June 28, 2000; and Revision 03, dated October 3, 2000; of Airbus Service Bulletin A320-28-1077; as additional sources of service information to use for accomplishment of the specified actions. One commenter states that Revision 04, dated December 14, 2001 (cited in the proposed AD for accomplishment of certain new actions) specifies that no additional work is required on airplanes modified by Revision 01, 02, or 03.

The FAA agrees to add Revisions 01, 02, and 03 of the referenced service bulletin as additional sources of service information for accomplishment of the actions required by paragraph (b)(1) of this final rule. Those revisions are acceptable if accomplished before the effective date of this AD, as the changes are mainly editorial changes.

Change to Final Rule

In paragraph (c)(2) of the proposed AD, we specified that alternative methods of compliance (AMOC) approved previously for AD 2000-14-15, were not approved as AMOCs with this AD. We have changed paragraph (c)(2) to specify that AMOCs approved previously are approved as AMOCs with paragraph (a) of this AD. The AMOCs that have been issued are not authorizing changes per the original issue of the service bulletin; therefore, they meet the requirements specified in those paragraphs.

Conclusion

After careful review of the available data, including the comments noted above, we have determined that air safety and the public interest require the adoption of the rule with the changes previously described. We have determined that these changes will neither increase the economic burden on any operator nor increase the scope of the AD.

Cost Impact

There are approximately 227 airplanes of U.S. registry that will be affected by this AD.

The actions that are currently required by AD 2000-14-15 take between 20 and 100 work hours per airplane to accomplish, at an average labor rate of $65 per work hour. The cost of required parts is negligible. Based on these figures, the cost impact of the currently required actions on U.S. operators is estimated to be between $295,100 and $1,475,500; or between $1,300 and $6,500 per airplane.

Should an operator be required to accomplish the actions specified in Airbus Service Bulletin A320-28-1077, Revision 01, 02, 03, 04, or 05, it takes approximately 2 work hours per airplane to accomplish, at an average labor rate of $65 per work hour. The cost of required parts is negligible. Based on these figures, the cost impact of these new actions is estimated to be $130 per airplane.

Should an operator be required to accomplish the actions specified in Airbus Service Bulletin A320-28-1079, it takes approximately 6 work hours per airplane to accomplish, at an average labor rate of $65 per work hour. The cost of required parts is negligible. Based on these figures, the cost impact of these new actions is estimated to be $390 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11825 (65 FR 45513, July 24, 2000), and by adding a new airworthiness directive (AD), amendment 39-13387 to read as follows:

2003-25-04 Airbus: Amendment 39-13387. Docket 2002-NM-125-AD. Supersedes AD 2000-14-15, Amendment 39-11825.

Applicability: Model A319, A320, and A321 series airplanes; certificated in any category; excluding those on which Airbus Modifications 27150, 27955, and 27472 have been installed.

Compliance: Required as indicated, unless accomplished previously.

To prevent ignition sources and consequent fire/explosion in the fuel tank, accomplish the following:

Restatement of Requirements of AD 2000-14-15

Modification and Installation

(a) Within 36 months after August 28, 2000 (the effective date of AD 2000-14-15, amendment 39-11825), modify the fuel pipe couplings and install bonding leads in the specified locations of the fuel tank, per the Accomplishment Instructions of Airbus Service Bulletin A320-28-1077, dated July 9, 1999; Revision 01, dated April 26, 2000; Revision 02, dated June 28, 2000; Revision 03, dated October 3, 2000; Revision 04, dated December 14, 2001; or Revision 05, dated August 27, 2002. As of the effective date of this AD, only Revision 01, 02, 03, 04, or 05 may be used.

New Requirements of this AD

Modification and Installation

(b) Do the applicable actions required by paragraphs (b)(1) and (b)(2) of this AD at the times specified.

(1) For airplanes on which the actions required by paragraph (a) of this AD have been done per Airbus Service Bulletin A320-28-1077, dated July 9, 1999: Within 36 months after the effective date of this AD, install an additional bonding lead (including doing an electrical resistance check) by doing all the actions per paragraphs 3.B.(3) and 3.C. of the Accomplishment Instructions of Airbus Service Bulletin A320-28-1077, Revision 04, dated December 14, 2001; or Revision 05, dated August 27, 2002. Accomplishment of the actions before the effective date of this AD per Airbus Service Bulletin A320-28-1077, Revision 01, dated April 26, 2000; Revision 02, dated June 28, 2000; or Revision 03, dated October 3, 2000; is considered acceptable for compliance with the actions required by this paragraph.

(2) For airplanes on which an additional center fuel tank is installed, as described in Airbus Service Bulletin A320-28-1079, dated November 30, 1998: Within 20 months after the effective date of this AD, modify the fuel system of the additional center fuel tank (including an electrical resistance check) by doing all the actions per paragraphs 2.A. through 2.E. of the Accomplishment Instructions of the service bulletin.

Alternative Methods of Compliance

(c)(1) In accordance with 14 CFR 39.19, the Manager, International Branch, ANM-116, FAA, Transport Airplane Directorate, is authorized to approve alternative methods of compliance for this AD.

(2) Alternative methods of compliance, approved previously in accordance with AD 2000-14-15, amendment 39-11825, are considered to be approved as alternative methods of compliance with paragraph (a) of this AD.

Incorporation by Reference

(d) The actions shall be done in accordance with Airbus Service Bulletin A320-28-1077, dated July 9, 1999; Airbus Service Bulletin A320-28-1077, Revision 01, dated April 26, 2000; Airbus Service Bulletin A320-28-1077, Revision 02, dated June 28, 2000; Airbus Service Bulletin A320-28-1077, Revision 03, dated October 3, 2000; Airbus Service Bulletin A320-28-1077, Revision 04, dated December 14, 2001; Airbus Service Bulletin A320-28-1077, Revision 05, dated August 27, 2002; and Airbus Service Bulletin A320-28-1079, dated November 30, 1998; as applicable.

(1) The incorporation by reference of Airbus Service Bulletin A320-28-1077, Revision 01, dated April 26, 2000; Airbus Service Bulletin A320-28-1077, Revision 02, dated June 28, 2000; Airbus Service Bulletin A320-28-1077, Revision 03, dated October 3, 2000; Airbus Service Bulletin A320-28-1077, Revision 04, dated December 14, 2001; Airbus Service Bulletin A320-28-1077, Revision 05, dated August 27, 2002; and Airbus Service Bulletin A320-28-1079, dated November 30, 1998; is approved by the Director of the Federal Register in accordance with 5 U.S.C. 552(a) and 1 CFR part 51.

(2) The incorporation by reference of Airbus Service Bulletin A320-28-1077, dated July 9, 1999, was approved previously by the Director of the Federal Register as of August 28, 2000 (65 FR 45513, July 24, 2000).

(3) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 1: The subject of this AD is addressed in French airworthiness directive 2002-202(B), dated April 17, 2002.

Effective Date

(e) This amendment becomes effective on January 27, 2004.

Issued in Renton, Washington, on December 5, 2003.
Kalene C. Yanamura,
Acting Manager, Transport Airplane Directorate, Aircraft Certification Service.

[FR Doc. 03-31063 Filed 12-22-03; 8:45 am]

BILLING CODE 4910-13-P